DEPARTMENT OF DEFENSE

Office of the Secretary

[Docket ID: DoD-2022-HA-0059]

Proposed Collection; Comment Request

AGENCY: Office of the Assistant Secretary of Defense for Health Affairs (OASD(HA)), Department of Defense (DoD).

ACTION: 60-Day information collection notice.

SUMMARY: In compliance with the Paperwork Reduction Act of 1995, the Defense Health Agency announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by July 22, 2022.

ADDRESSES: You may submit comments, identified by docket number and title, by any of the following methods:

Federal eRulemaking Portal: https://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at https://www.regulations.gov as they are received without change, including any personal identifiers or contact information.

FOR FURTHER INFORMATION CONTACT: To request more information on this proposed information collection or to obtain a copy of the proposal and associated collection instruments, please write to the Psychological Health Center of Excellence (PHCoE), 7700 Arlington Blvd., Suite 5101, Box #22 (Silver Spring Office), Falls Church, VA 22041, Dr. Derek Smolenski, or call (253) 968-4153.

SUPPLEMENTARY INFORMATION:

Title; Associated Form; and OMB Number: Department of Defense Suicide Event Report; DD Form 2996; OMB Control Number 0720-0058.

Needs and Uses: The information collection is necessary for ongoing surveillance of deaths by suicide and other suicide-related behaviors (suicide attempts, non-suicidal self-harm, suicide ideation) that occur among members of the Military Services. The information collected is used in generating an annual report, supporting planning and programmatic activities of the Defense Suicide Prevention Office, and providing information to the Military Services on changes in event frequency or the distribution of potential risk and protective factors.

Affected Public: Federal Government.

Annual Burden Hours: 2,500 hours.

Number of Respondents: 3,000.

Responses per Respondent: 1.

Annual Responses: 3,000.

Average Burden per Response: 50 minutes.

Frequency: As required.

Dated: May 17, 2022.
Aaron T. Siegel,
Alternate OSD Federal Register Liaison Officer, Department of Defense.

[FR Doc. 2022-11025 Filed 5-20-22; 8:45 am]

BILLING CODE 5001-06-P